NATIONAL FOUNDATION FOR THE ARTS AND HUMANITIES

Agency Information Collections Activities; Submission for OMB Review, Comment Request Evaluation General Operating Support Program

AGENCY: Institute of Museum and Library Services, NFAH.

ACTION: Notice of Requests for New Information Collection Approval.

SUMMARY: The Institute of Museum and Library Services announces the following information collection has been submitted to the Office of Management and Budget for review and approval in accordance with the Paperwork Reduction Act of 1995 (Pub. L. 104-13, 44 U.S.C. Chapter 35). Currently, the Institute of Museum and Library Services is soliciting comment concerning extending collection entitled, Technology Survey for Libraries and Museums. A copy of this proposed form, with applicable supporting documentation, may be obtained by calling the Institute of Museum and Library Services, Director of Public and Legislative Affairs, Mamie Bittner at (202) 606-8339. Individuals who use a telecommunications device for the deaf (TTY/TDD) may call (202) 606-8636.

DATES: Comments must be received by March 8, 2002. The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate, electronic, mechanical, or other technological collection techniques or other forms of information technology, e.g., permitting electronic submission of responses.

ADDRESSES: Send comments to: Mamie Bittner, Director of Legislative and Public Affairs, Institute of Museum and Library Services, 1100 Pennsylvania Ave., NW, Room 510, Washington, DC 20506.

SUPPLEMENTARY INFORMATION:

I. Background

Pub. L. 104-208 enacted on September 30, 1996 contains the former Museum Services Act and the Library Services and Technology Act, a reauthorization Pub. L. 104-208 authorizes the Director of the Institute of Museum and Library Services to make grants to improve museum and library service throughout the United States.

Agency: Institute of Museum and Library Services.

Title: Evaluation of IMLS General Operating Support program.

OMB Number: None.

Agency Number: 3137.

Frequency: One-time.

Affected Public: Museums.

Number of Respondents: 1,500.

Estimated Time Per Respondent: 30 minutes.

Total Burden Hours: 750.

Total Annualized capital/startup costs: $46,508.

Total Annual Costs: $0.

Contact. Comments should be sent to Office of Information and Regulatory Affairs, Attn.: OMB Desk Officer for Education, Office of Management and Budget, Room 10235, Washington, DC 20503 (202) 395-7316.

Mamie Bittner,
Director Public and Legislative Affairs.

[FR Doc. 02-2819 Filed 2-5-02; 8:45 am]

BILLING CODE 7036-01-M